FEDERAL COMMUNICATIONS COMMISSION

47 CFR Part 73

[MB Docket No. 22-456; DA 22-1340; FR ID 120701]

Television Broadcasting Services Chicago, Illinois

AGENCY: Federal Communications Commission.

ACTION: Final rule.

SUMMARY: In an Order adopted on December 16, 2022, the Media Bureau, Video Division amended its regulations to reflect the termination of the incentive auction channel sharing arrangement between noncommercial educational television stations WYCC, Chicago, Illinois and WTTW, Chicago, Illinois.

DATES: Effective January 3, 2023.

FOR FURTHER INFORMATION CONTACT: Joyce Bernstein, Media Bureau, at (202) 418-1647 or Joyce.Bernstein@fcc.gov.

SUPPLEMENTARY INFORMATION: In 2012, Congress passed the Spectrum Act that authorized the Commission to reorganize the ultra-high frequency (UHF) band using a two-sided incentive auction that reallocated broadcast television spectrum for mobile broadband services. The incentive auction permitted television stations to accept several bid options in exchange for money, including: (1) relinquishing all usage rights with respect to a particular television channel, i.e., permanently going off the air; and (2) relinquishing usage rights with respect to their channel in order to share a television channel with another licensee and continue broadcasting over a shared channel (channel sharing bid). In order to manage television spectrum, channels for full power television stations in the United States, its territories, and possessions are listed and codified in Part 73 of the Commission's rules. Full power television stations may only be constructed on channels designated in the codified Table of TV Allotments and only in the communities listed therein. Pursuant to the Commission's channel sharing procedures, when a CSA is implemented, both stations are issued licenses indicating that the stations are sharing spectrum, and the letter “S” or “*S” is included in the Table of TV Allotments to denote that a channel sharee (the station that has relinquished its channel) is allotted to that community. The asterisk indicates that at least one of the sharing stations was or is operating on a channel reserved for noncommercial educational (NCE) use. When a CSA is dissolved in a community and a sharee station does not enter into a new CSA, the sharee station may request, and the Media Bureau may grant, cancellation of the sharee station's license. In that case, the “S” or “*S” designation in the Table of TV Allotments is no longer accurate.

College District #508, County of Cook (CD #508), the former licensee of NCE television station WYCC, channel *21, was a winning license relinquishment bidder in the incentive auction and later entered into a CSA with Window to the World Communication, Inc. (Window to the World), the licensee of NCE television station WTTW, indicating that CD #508 would share WTTW's channel. Shortly thereafter, CD #508 filed an application to assign the license of WYCC to Window to the World, and that transaction was consummated on April 20, 2018. In May 2022, Window to the World filed an application for modification of its licenses to “modify the WTTW license to dissolve the channel share such that the WTTW license has the full channel capacity. The WYCC license authorization is being surrendered to the FCC per the terms of the FCC rules on channel sharing.” In June 2022, Window to the World submitted an application to surrender the license of WYCC. The Bureau granted the modification of license on May 18, 2022 and per Window to the World's request, cancelled the WYCC license on June 27, 2022.

The channels in the Table of TV Allotment under Chicago, Illinois presently reads as follows: “12, 19, 22, 23, 24, *25, 33, 34, S, *S.” Because the CSA was dissolved, WYCC's spectrum usage rights reverted to WTTW pursuant to the CSA, and the Media Bureau canceled the WYCC license in June 2022. Therefore, the “*S” designation in the Table of TV Allotments for Chicago, Illinois, which was included to reflect the sharing status of channel *25, is no longer accurate, and is deleted under delegated authority. The Bureau finds good cause to make this revision to the Table of TV Allotments without notice and comment. Section 553(b)(3)(B) of the Administrative Procedure Act provides that notice and comment are not required when the agency for good cause finds that notice and public procedure thereon are impracticable, unnecessary, or contrary to the public interest. In this case, notice and comment is unnecessary because the Bureau is amending the Table to reflect final actions previously taken in cancelling the WYCC license, as requested by the station's licensee, and allowing that station's spectrum usage rights to revert to WTTW, consistent with the CSA and section 73.3700(h)(2) of the Commission's rules. Accordingly, the relinquished usage rights are not available to any other person without the consent of Window to the World, which has not been given. In addition, given that the amendments to the Table reflect final actions the Bureau has previously taken, we find good cause to make these changes effective immediately upon publication in the Federal Register pursuant to section 553(d)(3) of the Administrative Procedure Act. An “S” remains accurate in the Table under Chicago, Illinois because there is a remaining sharee station in Chicago, commercial station WSNS-TV, which is sharing channel 33 with WMAQ-TV, Chicago.

This is a synopsis of the Commission's Order, MB Docket No. 22-456; DA 22-1340, adopted December 16, 2022, and released December 16, 2022. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(j), amend the Table of Allotments, under Illinois, by revising the entry for Chicago to read as follows:

§ 73.622 Digital television table of allotments.

* * * * *

(j) * * *

Community | Channel No.
* * * * *
ILLINOIS
* * * * *
Chicago | 12, 19, 22, 23, 24, * 25, 33, 34, S.
* * * * *

[FR Doc. 2022-28333 Filed 12-30-22; 8:45 am]

BILLING CODE 6712-01-P